DEPARTMENT OF TRANSPORTATION

Surface Transportation Board

[STB Finance Docket No. 35129]

SSP Railroad Holding LLC—Acquisition and Operation Exemption—Mittal Steel USA—Railways Inc

SSP Railroad Holding LLC (SSP), a newly formed noncarrier, has filed a verified notice of exemption under 49 CFR 1150.31 to acquire from Mittal Steel USA—Railways Inc. (Mittal Railways) and to operate approximately 183 miles of rail lines in and around Sparrows Point, MD.¹ Previously, BIP Acquisition Sub, Inc. obtained Board authority to acquire and operate the subject lines as part of a proposed sale of the Sparrows Point properties; however, that proposed sale of the properties was terminated and the line sale transaction was never consummated.²

¹ SSP is a wholly owned subsidiary of Severstal U.S. Holdings, LLC, which in turn is a wholly owned subsidiary of OAO Severstal, a publicly owned Russian steel company. ArcelorMittal USA Inc. (ArcelorMittal USA) is the U.S. subsidiary of ArcelorMittal, an international steel company. ArcelorMittal USA and its subsidiaries, including Mittal Railways, own various properties in the United States, including a steel plant at Sparrows Point and an extensive rail network serving the plant.

SSP states that, pursuant to a 2007 consent decree resulting from an action brought by the U.S. Department of Justice, ArcelorMittal USA has agreed to divest its properties at Sparrows Point, including the rail lines that are the subject of this notice. As provided in the sale agreement, OAO Severstal has agreed to purchase the non-rail properties at Sparrows Point and SSP has agreed to acquire the rail properties, which SSP intends to operate as a common carrier.

² See BIP Acquisition Sub, Inc.—Acquisition and Operation Exemption—Mittal Steel USA—Railways Inc., STB Finance Docket No. 35074 (STB served Aug. 24, 2007).

SSP has certified that its projected annual revenues as a result of this transaction will not exceed those that would qualify it as a Class III railroad. SSP states that it intends to consummate the transaction as soon as possible after May 1, 2008.³

³ SSP states that its projected annual revenues following the transaction will exceed $5 million. On April 1, 2008, SSP concurrently filed a certification of labor notice compliance and a petition for partial waiver of the 60-day advance labor notice requirements at 49 CFR 1150.32(e). That request is being addressed by the Board in a separate decision. Unless the Board grants the waiver request, the earliest this transaction may be consummated will be May 31, 2008.

Pursuant to the Consolidated Appropriations Act, 2008, Pub. L. 110-161, section 193, 121 Stat. 1844 (2007), nothing in this decision authorizes the following activities at any solid waste rail transfer facility: collecting, storing or transferring solid waste outside of its original shipping container; or separating or processing solid waste (including baling, crushing, compacting and shredding). The term “solid waste” is defined in section 1004 of the Solid Waste Disposal Act, 42 U.S.C. 6903.

If the verified notice contains false or misleading information, the exemption is void ab initio. Petitions to revoke the exemption under 49 U.S.C. 10502(d) may be filed at any time. The filing of a petition to revoke will not automatically stay the effectiveness of the exemption. Stay petitions must be filed by April 24, 2008 (at least 7 days before the exemption may become effective).

An original and 10 copies of all pleadings, referring to STB Finance Docket No. 35129, must be filed with the Surface Transportation Board, 395 E Street, SW., Washington, DC 20423-0001. In addition, a copy of each pleading must be served on Richard A. Allen, Zuckert, Scoutt & Rasenberger L.L.P., 888 Seventeenth Street, NW., Suite 700, Washington, DC 20006.

Board decisions and notices are available on our Web site at “http://www.stb.dot.gov.”

Decided: April 9, 2008.
By the Board, David M. Konschnik, Director, Office of Proceedings.
Anne K. Quinlan,
Acting Secretary.

[FR Doc. E8-7962 Filed 4-16-08; 8:45 am]

BILLING CODE 4915-01-P